BROADCASTING BOARD OF GOVERNORS

Sunshine Act Meeting

DATE AND TIME: Thursday, September 15, 2011, 2 p.m.

PLACE: Broadcasting Board of Governors, VOA Briefing Room (Room 1528-A), 330 Independence Ave., SW., Washington, DC 20237.

SUBJECT: Notice of Meeting of the Broadcasting Board of Governors.

SUMMARY: The Broadcasting Board of Governors (BBG) will be meeting at the time and location listed above. The BBG will receive and consider recommendations regarding a proposed new strategic plan and the revision of Agency grant agreements. The BBG will receive reports from: The BBG's Strategy and Budget Committee and Governance Committee; the International Broadcasting Bureau Director; and the Voice of America, the Office of Cuba Broadcasting, Radio Free Europe/Radio Liberty, Radio Free Asia, and the Middle East Broadcasting Networks regarding programming coverage updates. The BBG will also receive an update on digital innovations. The meeting is open to public observation via streamed Webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel and Board Secretary.

[FR Doc. 2011-23222 Filed 9-7-11; 4:15 pm]

BILLING CODE 8610-01-P